NATIONAL FOUNDATION ON THE ARTS AND THE HUMANITIES

National Endowment for the Humanities

Meetings of Humanities Panel

AGENCY: National Endowment for the Humanities, National Foundation on the Arts and the Humanities.

ACTION: Notice of meetings.

SUMMARY: The National Endowment for the Humanities will hold twenty-four meetings of the Humanities Panel, a federal advisory committee, during August, 2016. The purpose of the meetings is for panel review, discussion, evaluation, and recommendation of applications for financial assistance under the National Foundation on the Arts and Humanities Act of 1965.

DATES: See SUPPLEMENTARY INFORMATION section for meeting dates. The meetings will open at 8:30 a.m. and will adjourn by 5:00 p.m. on the dates specified below.

ADDRESSES: The meetings will be held at the National Endowment for the Humanities at Constitution Center at 400 7th Street SW., Washington, DC 20506.

FOR FURTHER INFORMATION CONTACT: Elizabeth Voyatzis, Committee Management Officer, 400 7th Street SW., Room 4060, Washington, DC 20506; (202) 606-8322; evoyatzis@neh.gov.

SUPPLEMENTARY INFORMATION: Pursuant to section 10(a)(2) of the Federal Advisory Committee Act (5 U.S.C. App.), notice is hereby given of the following meetings:

1. Date: August 1, 2016.

This meeting will discuss applications on the subject of Asian Studies for Fellowships for University Teachers, submitted to the Division of Research Programs.

2. Date: August 1, 2016.

This meeting will discuss applications on the subject of Asian Studies for Fellowships for University Teachers, submitted to the Division of Research Programs.

3. Date: August 2, 2016.

This meeting will discuss applications on the subjects of Anthropology and New World Archaeology for Fellowships for University Teachers, submitted to the Division of Research Programs.

4. Date: August 2, 2016.

This meeting will discuss applications on the subjects of Romance Literature and Studies for Fellowships for University Teachers, submitted to the Division of Research Programs.

5. Date: August 3, 2016.

This meeting will discuss applications on the subjects of American Literature and Studies for Fellowships for University Teachers, submitted to the Division of Research Programs.

6. Date: August 3, 2016.

This meeting will discuss applications on the subject of Latin American History for Fellowships for University Teachers, submitted to the Division of Research Programs.

7. Date: August 4, 2016.

This meeting will discuss applications on the subject of European History for Fellowships for University Teachers, submitted to the Division of Research Programs.

8. Date: August 4, 2016.

This meeting will discuss applications on the subject of European History for Fellowships for University Teachers, submitted to the Division of Research Programs.

9. Date: August 8, 2016.

This meeting will discuss applications on the subject of African Studies for Fellowships for University Teachers, submitted to the Division of Research Programs.

10. Date: August 8, 2016.

This meeting will discuss applications on the subjects of Social Sciences and the History of Science for Fellowships for University Teachers, submitted to the Division of Research Programs.

11. Date: August 8, 2016.

This meeting will discuss applications for the Preservation and Access Education and Training grant program, submitted to the Division of Preservation and Access.

12. Date: August 9, 2016.

This meeting will discuss applications for the Preservation and Access Education and Training grant program, submitted to the Division of Preservation and Access.

13. Date: August 9, 2016.

This meeting will discuss applications on the subject of American History for Fellowships for University Teachers, submitted to the Division of Research Programs.

14. Date: August 10, 2016.

This meeting will discuss applications on the subjects of Medieval and Renaissance Studies for Fellowships for University Teachers, submitted to the Division of Research Programs.

15. Date: August 11, 2016.

This meeting will discuss applications on the subjects of Ancient and Classical Studies and Old World Archaeology for Fellowships for University Teachers, submitted to the Division of Research Programs.

16. Date: August 11, 2016.

This meeting will discuss applications on the subjects of Latin American and Latino Studies for Fellowships for University Teachers, submitted to the Division of Research Programs.

17. Date: August 12, 2016.

This meeting will discuss applications on the subjects of Literature, Arts, Communication, and Media for NEH-Mellon Fellowships for Digital Publication, submitted to the Division of Research Programs.

18. Date: August 15, 2016.

This meeting will discuss applications on the subjects of American History, Literature and Studies for NEH-Mellon Fellowships for Digital Publication, submitted to the Division of Research Programs.

19. Date: August 15, 2016.

This meeting will discuss applications on the subjects of World History, Linguistics, and Anthropology for NEH-Mellon Fellowships for Digital Publication, submitted to the Division of Research Programs.

20. Date: August 16, 2016.

This meeting will discuss applications on the subjects of Classics, Philosophy, Religion, and European History for NEH-Mellon Fellowships for Digital Publication, submitted to the Division of Research Programs.

21. Date: August 22, 2016.

This meeting will discuss applications on the subject of Media and Digital Preservation for the Research and Development grant program, submitted to the Division of Preservation and Access.

22. Date: August 23, 2016.

This meeting will discuss applications on the subjects of Cultural Heritage, Material Culture, and Visualization for the Research and Development grant program, submitted to the Division of Preservation and Access.

23. Date: August 24, 2016.

This meeting will discuss applications on the subject of Conservation Science for the Research and Development grant program, submitted to the Division of Preservation and Access.

24. Date: August 31, 2016.

This meeting will discuss applications on the subject of U.S. History for Digital Projects for the Public: Discovery Grants, submitted to the Division of Public Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: July 7, 2016.
Elizabeth Voyatzis,
Committee Management Officer.

[FR Doc. 2016-16468 Filed 7-12-16; 8:45 am]

BILLING CODE 7536-01-P